DEPARTMENT OF COMMERCE

National Oceanic and Atmospheric Administration

[XRIN: 0648-XA99]

Fisheries of the South Atlantic, Gulf of Mexico, and Caribbean; Southeastern Data, Assessment, and Review (SEDAR) Steering Committee; Public Meeting

AGENCY: National Marine Fisheries Service (NMFS), National Oceanic and Atmospheric Administration (NOAA), Commerce.

ACTION: Notice of the SEDAR Steering Committee Meeting.

SUMMARY: The SEDAR Steering Committee will meet to discuss the SEDAR assessment schedule, SEDAR process modifications, regional research and monitoring needs, and management evaluation activity scheduling.

DATES: The SEDAR Steering Committee will meet on Wednesday, September 26, 2007, from 1 p.m. to 6 p.m.; and Thursday, September 27, 2007, from 9 a.m. to 1 p.m.

ADDRESSES: The meeting will be held at the NMFS, South East Regional Office located at 263 13th Ave South, St Petersburg, FL 33701.

Council address: South Atlantic Fishery Management Council, 4055 Faber Place, Suite 201, North Charleston, SC 29405.

FOR FURTHER INFORMATION CONTACT: John Carmichael, SEDAR Program Manager, SEDAR/SAFMC, 4055 Faber Place, Suite 201, North Charleston, SC 29405; telephone: (843) 571-4366 or toll free (866) SAFMC-10; fax: (843) 769-4520.

SUPPLEMENTARY INFORMATION: The South Atlantic, Gulf of Mexico, and Caribbean Fishery Management Councils; in conjunction with NOAA Fisheries, the Atlantic States Marine Fisheries Commission, and the Gulf States Marine Fisheries Commission; implemented the SEDAR process, a multi-step method for determining the status of fish stocks. The SEDAR Steering Committee meets twice annually to provide oversight of the SEDAR process, establish assessment priorities, and provide coordination between assessment efforts and management activities.

During this meeting the Steering Committee will receive reports on recent SEDAR activities, consider benchmark and update assessment scheduling for 2009-12, receive reports from the Councils regarding research and monitoring priorities, and discuss procedural issues that have arisen since the previous meeting.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to the South Atlantic Fishery Management Council office (see ADDRESSES) at least 10 business days prior to the meeting.

Dated: June 26, 2007.
Tracey L. Thompson,
Acting Director, Office of Sustainable Fisheries, National Marine Fisheries Service.

[FR Doc. E7-12636 Filed 6-28-07; 8:45 am]

BILLING CODE 3510-22-S